INTERNATIONAL TRADE COMMISSION

[Investigation No. 337-TA-930]

Certain Laser Abraded Denim Garments; Commission Decision Not To Review an Initial Determination Granting a Motion To Intervene

AGENCY: U.S. International Trade Commission.

ACTION: Notice.

SUMMARY: Notice is hereby given that the U.S. International Trade Commission has determined not to review the presiding administrative law judge's (“ALJ”) initial determination (“ID”) (Order No. 82) granting Dentons US LLP (“Dentons”) leave to intervene for the sole purpose of seeking reconsideration and/or Commission review of Order No. 43 in the above-captioned investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on September 23, 2014, based on a complaint filed by RevoLaze, LLC and TechnoLines, LLC, both of Westlake, Ohio. 79 FR 56828 (Sept. 23, 2014). The complaint alleged violations of section 337 of the Tariff Act of 1930, as amended 19 U.S.C. 1337, by reason of the importation into the United States, the sale for importation, and the sale within the United States after importation of certain laser abraded denim garments. The complaint alleged the infringement of seventy-one claims of six United States patents. The notice of institution named twenty respondents including The Gap, Inc. of San Francisco, California (“the Gap”).

On March 11, 2015, the Gap moved to disqualify Dentons as counsel for the complainants. On May 7, 2015, the ALJ granted the Gap's motion. Order No. 43 at 1-2, 13. On July 6, 2015, Dentons moved for leave to intervene for the sole purpose of seeking reconsideration and/or Commission review of Order No. 43. No responses to the motion to intervene were filed, and on August 7, 2015, the ALJ granted the motion as the subject ID. Order No. 82.

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: August 26, 2015.
Lisa R. Barton,
Secretary to the Commission.

[FR Doc. 2015-21569 Filed 8-31-15; 8:45 am]

BILLING CODE 7020-02-P